DEPARTMENT OF TRANSPORTATION

National Highway Traffic Safety Administration

49 CFR Part 513

[Docket No. NHTSA-2023-0014]

RIN 2127-AL85

Implementing the Whistleblower Provisions of the Vehicle Safety Act

AGENCY: National Highway Traffic Safety Administration, U.S. Department of Transportation (DOT).

ACTION: Notification of enforcement discretion.

SUMMARY: This notice announces that the National Highway Traffic Safety Administration will not enforce the requirements of the final rule titled “Implementing the Whistleblower Provisions of the Vehicle Safety Act” until March 20, 2025.

DATES: This notice of enforcement discretion is effective from March 3, 2025 to March 20, 2025.

FOR FURTHER INFORMATION CONTACT: Dylan Voneiff, Office of the Chief Counsel, National Highway Traffic Safety Administration (telephone: (202) 763-8536), email: dylan.voneiff@dot.gov; or Daniel Rabinovitz, Office of the Chief Counsel, National Highway Traffic Safety Administration (telephone: (202) 366-5263), email: daniel.rabinovitz@dot.gov.

Electronic Access and Filing: This document, the notice of proposed rulemaking (NPRM), all comments received, the final rule (including Form WB-INFO (Appendix A), Form WB-RELEASE (Appendix B), Form WB-AWARD (Appendix C)), and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

SUPPLEMENTARY INFORMATION: In December 2024, the National Highway Traffic Safety Administration issued a final rule titled, “Implementing the Whistleblower Provisions of the Vehicle Safety Act,” 89 FR 101952 (Dec. 17, 2024). This final rule fulfills a requirement in the Motor Vehicle Safety Whistleblower Act (Whistleblower Act), 49 U.S.C. 30172(i), that NHTSA promulgate regulations on the requirements of the Act, in complement to NHTSA's existing whistleblower program. The Whistleblower Act authorizes the Secretary of Transportation to pay an award, subject to certain limitations, to eligible whistleblowers who voluntarily provide original information relating to any motor vehicle defect, noncompliance, or any violation or alleged violation of any notification or reporting requirement of 49 U.S.C. Chapter 301, which is likely to cause unreasonable risk of death or serious physical injury, if the information provided leads to the successful resolution of a covered action. This final rule defines certain terms important to the operation of the whistleblower program, outlines the procedures for submitting original information to NHTSA and applying for awards, discusses NHTSA's procedures for making decisions on award applications, and generally explains the scope of the whistleblower program to the public and potential whistleblowers. This final rule became effective on January 16, 2025.

On January 20, 2025, the President issued a memorandum titled, “Regulatory Freeze Pending Review,” 90 FR 8249 (Jan. 28, 2025), to direct executive departments and agencies to consider postposing for 60 days the effective date for any rules that had been published in the Federal Register but had not taken effect for the purpose of reviewing any questions of fact, law, and policy that the rules may raise. While not explicitly subject to the President's memorandum, the National Highway Traffic Safety Administration is providing notice that it will exercise its enforcement discretion and not enforce the provisions of the final rule titled “Implementing the Whistleblower Provisions of the Vehicle Safety Act” until March 20, 2025, to allow the officials appointed or designated by the President to review the final rule to ensure that it is consistent with the law and Administration policies.

Issued in Washington, DC, under authority delegated in 49 CFR 1.95 and 501.5:
Peter Simshauser,
Chief Counsel.

[FR Doc. 2025-03355 Filed 2-28-25; 8:45 am]

BILLING CODE 4910-59-P